DEPARTMENT OF TRANSPORTATION

Federal Aviation Administration

Public Notice for a Change in Use of Aeronautical Property at Portland International Jetport, Portland, ME

AGENCY: Federal Aviation Administration (FAA), DOT.

ACTION: Request for public comments.

SUMMARY: The FAA is requesting public comment on the City of Portland's request to swap approx. 1.44 acres of aeronautical use property with the State of Maine. The parcels are located off Brickhill Avenue, South Portland, and were once part of the Maine Youth Center. The swap will straighten the property boundary allowing for both the City and State to develop both parcels to their maximum potential. The parcel to be conveyed to the Jetport will be used for aeronautical purposes. The parcel conveyed to the State will be used for automobile parking. The property was acquired under AIP Project No. 3-23-0038-54-2003.

The disposition of proceeds from the disposal of airport property will be in accordance with FAA's Policy and Procedures Concerning the Use of Airport Revenue, published in the Federal Register on February 16, 1999.

DATES: Comments must be received on or before June 22, 2006.

ADDRESSES: Documents are available for review by appointment by contacting Jeffrey Shultes, Airport Manager at Portland International Jetport, Telephone 207-772-0690, and by contacting Donna R. Witte, Federal Aviation Administration, 16 New England Executive Park, Burlington, Massachusetts, Telephone 781-238-7624.

FOR FURTHER INFORMATION CONTACT: Donna R. Witte at the Federal Aviation Administration, 12 New England Executive Park, Burlington, Massachusetts 01803, Telephone 781-238-7624.

SUPPLEMENTARY INFORMATION: Section 125 of The Wendell H. Ford Aviation Investment and Reform Act for the 21st Century (AIR 21) requires the FAA to provide an opportunity for public notice and comment to the “waiver” or “modification” of a sponsor's Federal obligation to use certain airport property for aeronautical purposes.

Issued in Burlington, Massachusetts on May 4, 2006.
Bryon Rakoff,
Acting Manager, Airports Division, New England Region.

[FR Doc. 06-4733 Filed 5-22-06; 8:45 am]

BILLING CODE 4910-13-M